NUCLEAR REGULATORY COMMISSION

[Docket No. 50-341; NRC-2014-0109]

License Renewal Application for Fermi 2 Nuclear Power Plant

AGENCY: Nuclear Regulatory Commission.

ACTION: Supplemental environmental impact statement; issuance.

SUMMARY: The U.S. Nuclear Regulatory Commission (NRC) is issuing a final plant-specific supplement, Supplement 56, to NUREG-1437, “Generic Environmental Impact Statement for License Renewal of Nuclear Plants” (GEIS), regarding the renewal of the DTE Electric Company (DTE) operating license NPF-43 for an additional 20 years of operation for Fermi 2 Nuclear Power Plant (Fermi 2)

DATES: The final Supplement 56 to the GEIS is available as of September 28, 2016.

ADDRESSES: Please refer to Docket ID NRC-2014-0109 when contacting the NRC about the availability of information regarding this document. You may obtain publicly-available information related to this document using any of the following methods:

• Federal Rulemaking Web site: Go to http://www.regulations.gov and search for Docket ID NRC-2014-0109. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 56 to NUREG-1437 is in ADAMS under Accession No. ML16259A103 for Volume 1 and ML16259A109 for Volume 2.

• NRC's PDR: You may examine and purchase copies of public documents at the NRC's PDR, Room O1-F21, One White Flint North, 11555 Rockville Pike, Rockville, Maryland 20852.

• Public Libraries: The final Supplement 56 to NUREG-1437 is available for public inspection at the Ellis Library and Reference Center, Monroe, Michigan.

FOR FURTHER INFORMATION CONTACT: Elaine Keegan, Office of Nuclear Reactor Regulation, telephone: 301-415-8517, email: Elaine.Keegan@nrc.gov, U.S. Nuclear Regulatory Commission, Washington, DC 20555-0001.

SUPPLEMENTARY INFORMATION:

I. Background

In accordance with § 51.118 of title 10 of the Code of Federal Regulations (10 CFR), the NRC is making available final Supplement 56 to NUREG-1437, regarding the renewal of DTE operating license NPF-43 for an additional 20 years of operation for Fermi 2. Draft Supplement 56 to NUREG-1437 was published in the Federal Register on November 6, 2015 (80 FR 68881), and published in the Federal Register by the Environmental Protection Agency on November 13, 2015 (80 FR 70206). The public comment period on draft Supplement 56 to NUREG-1437 ended on December 28, 2015, and the comments received are addressed in final Supplement 56 to NUREG-1437.

II. Discussion

As discussed in Chapter 5 of the final Supplement 56 to NUREG-1437, the NRC staff determined that the adverse environmental impacts of license renewal for Fermi 2 are not so great that preserving the option of license renewal for energy-planning decisionmakers would be unreasonable. This recommendation is based on: (1) The analysis and findings in the GEIS; (2) information provided in the environmental report and other documents submitted by DTE; (3) consultation with Federal, State, local, and Tribal agencies; (4) the NRC staff's independent environmental review; and (5) consideration of public comments received during the scoping process and on the Draft Supplemental Environmental Impact Statement.

Dated at Rockville, Maryland, this 21 day of September, 2016.
For the Nuclear Regulatory Commission.
Kevin T. Folk,
Acting Chief, Environmental Review and Projects Branch, Division of License Renewal, Office of Nuclear Reactor Regulation.

[FR Doc. 2016-23372 Filed 9-27-16; 8:45 am]

BILLING CODE 7590-01-P